DEPARTMENT OF COMMERCE

Foreign-Trade Zones Board

[B-22-2026]

Foreign-Trade Zone (FTZ) 153, Notification of Proposed Production Activity; CMS Circuits, Inc.; (Electronic Manufacturing Services in Aerospace, Industrial, and Medical Applications); Murrieta, California

The City of San Diego, grantee of FTZ 153, submitted a notification of proposed production activity to the FTZ Board (the Board) on behalf of CMS Circuits, Inc. (CMS) for CMS's facilities in Murrieta, California within FTZ 153. The notification conforming to the requirements of the Board's regulations (15 CFR 400.22) was received on February 23, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: ceramic hybrid circuits; heating elements; flexible medical endoscopes; assembled electro-medical diagnostic accessories; aerospace electronic control modules; and, flexible medical catheters (duty-free).

The proposed foreign-status materials/components include: alumina ceramic plates; aluminum nitride; precious metal conductive silver inks; precious metal conductive gold inks; copper conductive inks; integrated circuit microchips; charge-coupled device image sensors; light-emitting diodes; glass optical elements; fiber optic bundles; molded plastic protective covers; molded plastic ergonomic handles; nonwoven high-density polyethylene synthetic fiber sterile barrier pouches; thermistors; flexible flat cable; stainless steel structural tubing; stainless steel braided wires; reinforced polyether block amide tubing; laser-machined stainless steel chain links; integrated imaging units; subassemblies of endoscopes; electrical connectors; subassemblies of catheters; medical tubing; and, stainless hypotubes (duty rate ranges from duty-free to 8.4%).

The request indicates that certain materials/components are subject to duties under section 122 of the Trade Act of 1974 (Section 122), section 232 of the Trade Expansion Act of 1962 (section 232), or section 301 of the Trade Act of 1974 (section 301), depending on the country of origin. The applicable section 122, section 232, and section 301 decisions require subject merchandise to be admitted to FTZs in privileged foreign (PF) status (19 CFR 146.41).

Public comment is invited from interested parties. Submissions shall be addressed to the Board's Executive Secretary and sent to: ftz@trade.gov. The closing period for their receipt is April 13, 2026.

A copy of the notification will be available for public inspection in the “Online FTZ Information System” section of the Board's website.

For further information, contact Brian Warnes at brian.warnes@trade.gov.

Dated: February 25, 2026.
Elizabeth Whiteman,
Executive Secretary.

[FR Doc. 2026-04058 Filed 2-27-26; 8:45 am]

BILLING CODE 3510-DS-P